DEPARTMENT OF COMMERCE

International Trade Administration

[C-549-836, C-570-070]

Rubber Bands From Thailand and the People's Republic of China: Postponement of Preliminary Determinations in the Countervailing Duty Investigations

AGENCY: Enforcement and Compliance, International Trade Administration, Department of Commerce.

DATES: Applicable April 12, 2018.

FOR FURTHER INFORMATION CONTACT: Shanah Lee at (202) 482-6386 (Thailand) and Kristen Johnson at (202) 482-4793 (the People's Republic of China), AD/CVD Operations, Enforcement and Compliance, International Trade Administration, U.S. Department of Commerce, 1401 Constitution Avenue NW, Washington, DC 20230.

SUPPLEMENTARY INFORMATION:

Background

On February 20, 2018, the Department of Commerce (Commerce) initiated countervailing duty (CVD) investigations on rubber bands from Thailand and the People's Republic of China.¹ Currently, the preliminary determinations of these investigations are due no later than April 26, 2018.

¹ See Rubber Bands from Thailand, the People's Republic of China, and Sri Lanka: Initiation of Countervailing Duty Investigations, 83 FR 8429 (February 27, 2018). Pursuant to section 703(a)(1) of the Tariff Act of 1930, as amended, the countervailing duty investigation on rubber bands from Sri Lanka was terminated following the International Trade Commission's determination that imports of rubber bands from Sri Lanka that are alleged to be sold at less than fair value and subsidized by the government of Sri Lanka are negligible. See Rubber Bands from China, Sri Lanka, and Thailand; Determinations, 83 FR 12594 (March 22, 2018).

Postponement of Preliminary Determinations

Section 703(b)(1) of the Tariff Act of 1930, as amended (the Act) requires Commerce to issue the preliminary determination in a CVD investigation within 65 days after the date on which Commerce initiated the investigation. However, section 703(c)(1)(A) of the Act permits Commerce to postpone the preliminary determination until no later than 130 days after the date on which Commerce initiated the investigation if a petitioner makes a timely request for a postponement. Under 19 CFR 351.205(e), a petitioner must submit a request for postponement 25 days or more before the scheduled date of the preliminary determination and must state the reason for the request. Commerce will grant the request unless it finds compelling reasons to deny the request.²

² See 19 CFR 351.205(e).

On March 27, 2018, Alliance Rubber Co. (the petitioner) submitted a timely request, pursuant to section 703(c)(1)(A) of the Act and 19 CFR 351.205(e), to postpone fully the preliminary determinations.³ The petitioner stated that the purpose of its request is to provide Commerce with adequate time to analyze fully `questionnaire responses to determine the extent to which countervailable subsidies are used by the respondents.⁴

³ See Letter from the petitioner, “Petitioner's Request for Postponement of the Preliminary Determinations,” dated March 27, 2018.

⁴ Id. at 2.

In accordance with 19 CFR 351.205(e), the petitioner stated the reason for requesting a postponement of the preliminary determinations and the record does not present any compelling reasons to deny the request. Therefore, in accordance with section 703(c)(1)(A) of the Act, Commerce is postponing the deadline for the preliminary determinations to July 2, 2018.⁵ In accordance with section 705(a)(1) of the Act and 19 CFR 351.210(b)(1), the deadline for the final determinations of these investigations will continue to be 75 days after the date of the preliminary determinations, unless postponed at a later date.

⁵ The actual deadline is June 30, 2018, which is a Saturday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: April 6, 2018.
Gary Taverman,
Deputy Assistant Secretary for Antidumping and Countervailing Duty Operations, performing the non-exclusive functions and duties of the Assistant Secretary for Enforcement and Compliance.

[FR Doc. 2018-07588 Filed 4-11-18; 8:45 am]

BILLING CODE 3510-DS-P